POSTAL SERVICE

Change in Rates and Classes of General Applicability for Competitive Products

AGENCY: Postal Service™.

ACTION: Notice of a change in rates and classifications of general applicability for competitive products.

SUMMARY: This notice sets forth changes in rates and classifications of general applicability for competitive products.

DATES: Effective date: July 10, 2022.

FOR FURTHER INFORMATION CONTACT: Elizabeth Reed, 202-268-3179.

SUPPLEMENTARY INFORMATION: On May 5, 2022, pursuant to their authority under 39 U.S.C. 3632, the Governors of the Postal Service established prices and classification changes for competitive products. The Governors' Decision and the record of proceedings in connection with such decision are reprinted below in accordance with section 3632(b)(2).

Sarah Sullivan,
Attorney, Ethics and Legal Compliance.

Decision of the Governors of the United States Postal Service on Changes in Rates and Classifications of General Applicability for Competitive Products (Governors' Decision No. 22-1)

May 5, 2022

Statement of Explanation and Justification

Pursuant to authority under section 3632 of title 39, as amended by the Postal Accountability and Enhancement Act of 2006 (“PAEA”), we establish prices and classifications of general applicability for certain of the Postal Service's competitive products. The changes are described generally below, with a detailed description of the changes in the attachment. The attachment includes the draft Mail Classification Schedule sections with classification changes in legislative format, and new prices displayed in the price charts.

As shown in the nonpublic annex being filed under seal herewith, the changes we establish should enable each competitive product to cover its attributable costs (39 U.S.C. 3633(a)(2)) and should result in competitive products as a whole complying with 39 U.S.C. 3633(a)(3), which, as implemented by 39 CFR 3035.107(c), requires competitive products collectively to contribute a minimum of 10.0 percent to the Postal Service's institutional costs. Accordingly, no issue of subsidization of competitive products by market dominant products should arise (39 U.S.C. 3633(a)(1)). We therefore find that the new prices are in accordance with 39 U.S.C. 3632-3633 and 39 CFR 3035.102.

I. Domestic Products

A. Priority Mail

The existing structure of the Priority Mail Retail, Commercial Base, and Commercial Plus price categories is maintained. No price changes are proposed, but classification changes are made to increase insurance to $100 for Priority Mail and to extend the inclusion of $100 in insurance to Priority Mail Returns. Eligibility requirements for Commercial Plus Cubic pricing are being removed, so that all commercial customers can utilize Priority Mail cubic pricing.

B. Parcel Select

Cubic pricing will be introduced for the Parcel Select Ground price category. No other price or classification changes are proposed for the Parcel Select product, and the existing structure is maintained.

No other price or classification changes for Domestic Products are being made.

I. International Products

A. International Ancillary Services and Special Services

Prices for Outbound International Insurance will be increased about 55 percent on average to ensure adequate cost coverage, in response to recent directives from the Postal Regulatory Commission (PRC) in its FY 2021 Annual Compliance Determination (ACD) to take corrective action in this regard in relation to Outbound International Insurance's failure to cover its costs in FY 2021. Prices for International Money Transfer Service (IMTS)—Outbound, which includes international Postal Money Orders and Electronic Money Transfer Service, will increase by about 305 percent, in response to a PRC directive in the FY 2021 ACD after a finding that IMTS—Outbound did not cover its costs.

No other price or classification changes for International Products are being made.

Order

The changes in prices and classes set forth herein shall be effective at 12:01 a.m. on July 10, 2022. We direct the Secretary to have this decision published in the Federal Register in accordance with 39 U.S.C. 3632(b)(2) and direct management to file with the Postal Regulatory Commission appropriate notice of these changes.

By The Governors:

/s/

Roman Martinez IV,

Chairman, Board of Governors.

United States Postal Service Office of the Board of Governors

Certification of Governors' Vote on Governors' Decision No. 22-1

Consistent with 39 U.S.C. 3632(a), I hereby certify that, on May 5, 2022, the Governors voted on adopting Governors' Decision No. 22-1, and that a majority of the Governors then holding office voted in favor of that Decision.

Date: May 5, 2022.

/s/

Michael J. Elston,

Secretary of the Board of Governors.

BILLING CODE 7710-12-P

[FR Doc. 2022-10377 Filed 5-12-22; 8:45 am]

BILLING CODE 7710-12-C